DEPARTMENT OF COMMERCE

National Oceanic and Atmospheric Administration

RIN 0648-XG164

South Atlantic Fishery Management Council; Public Meetings

AGENCY: National Marine Fisheries Service (NMFS), National Oceanic and Atmospheric Administration (NOAA), Commerce.

ACTION: Notice of a public meeting.

SUMMARY: The South Atlantic Fishery Management Council (Council) will hold a meeting of its Spiny Lobster Advisory Panel.

DATES: The meeting will be held via webinar on May 7, 2018, from 1 p.m. until 4 p.m.

ADDRESSES: Council address: South Atlantic Fishery Management Council, 4055 Faber Place Drive, Suite 201, N. Charleston, SC 29405.

FOR FURTHER INFORMATION CONTACT: Kim Iverson, Public Information Officer, SAFMC; phone: (843) 571-4366 or toll free: (866) SAFMC-10; fax: (843) 769-4520; email: kim.iverson@safmc.net.

SUPPLEMENTARY INFORMATION: Agenda items for the Spiny Lobster Advisory Panel include the following: A review of Spiny Lobster Amendment 13 (gear requirements and cooperative management procedures), development of a Fishery Performance Report for spiny lobster, and a discussion of regulatory reform. Advisory panel members will provide recommendations as appropriate.

Special Accommodations

The meeting is physically accessible to people with disabilities. Requests for auxiliary aids should be directed to the Council office (see ADDRESSES) 3 days prior to the public meeting.

Note: The times and sequence specified in this agenda are subject to change.

Authority: 16 U.S.C. 1801 et seq.

Dated: April 17, 2018.
Tracey L. Thompson,
Acting Deputy Director, Office of Sustainable Fisheries, National Marine Fisheries Service.

[FR Doc. 2018-08340 Filed 4-19-18; 8:45 am]

BILLING CODE 3510-22-P